DEPARTMENT OF HEALTH AND HUMAN SERVICES

Centers for Medicare & Medicaid Services

42 CFR Parts 403, 412, 413, 418, 460, 480, 482, 483, 485, and 489

[CMS-1428-N]

RIN 0938-AM80

Medicare Program; Changes to the Hospital Inpatient Prospective Payment Systems and Fiscal Year 2005 Rates; Extension for the Hospital Applications To Receive Increases in Full Time Equivalent Resident Caps for Graduate Medical Education Payment

AGENCY: Centers for Medicare & Medicaid Services (CMS), HHS.

ACTION: Extension of application deadline.

SUMMARY: This document extends the deadline for hospitals to submit applications to CMS in order to receive increases in full-time equivalent (FTE) resident caps for graduate medical education (GME) payment purposes under section 1886(h)(7)(B) of the Social Security Act, added by section 422 of the Medicare Prescription Drug, Improvement, and Modernization Act (MMA) of 2003.

DATES: The deadline for receipt of applications to receive increases in FTE resident caps for GME payments is extended to December 15, 2004.

FOR FURTHER INFORMATION CONTACT: Heath Westcott, (410) 786-4515.

SUPPLEMENTARY INFORMATION:

I. Background

We published a final rule in the Federal Register (69 FR 48916) that revised the Medicare hospital inpatient prospective payments systems for operating and capital related costs to implement a number of changes made by the MMA.

Section 422 of the MMA (Pub. L. 108-173) provides for a reduction in the statutory resident caps under Medicare for certain hospitals and authorizes a “redistribution” of those FTE resident slots to other hospitals. Qualifying hospitals that submit a timely application may receive up to 25 additional FTE resident cap slots for direct GME and indirect medical education purposes.

II. Provisions of the Notice

In the Fiscal Year (FY) 2005 final rule (69 FR 49141 and 69 FR 49169), we stated that any hospital that wishes to receive an increase in its FTE resident cap(s) under section 1886(h)(7)(B) of the Social Security Act (the Act) must submit an application to the CMS Central Office and to the CMS Regional Office for the region in which the applicant hospital is located, and that the application must be received on or before December 1, 2004. In order to give hospitals more time to complete these applications, we are extending this deadline to December 15, 2004.

Additional information regarding reductions and increases in hospitals' FTE resident caps for purposes of direct and indirect GME payments under section 1886(h)(7) of the Act can be found in the August 11, 2004 Federal Register (69 FR 49112).

III. Collection of Information Requirements

This document does not impose information collection and recordkeeping requirements. Consequently, it need not be reviewed by the Office of Management and Budget under the authority of the Paperwork Reduction Act of 1995.

Authority: Section 1886(h)(7)(B) of the Social Security Act (42 U.S.C. 1395ww(h)(7)(B)).

(Catalog of Federal Domestic Assistance Program No. 93.773 Medicare—Hospital Insurance Program)

Dated: November 18, 2004.
Mark B. McClellan,
Administrator, Centers for Medicare & Medicaid Services.
Approved: November 23, 2004.
Tommy G. Thompson,
Secretary.

[FR Doc. 04-26356 Filed 11-24-04; 9:24 am]

BILLING CODE 4120-01-P